DEPARTMENT OF COMMERCE

Foreign-Trade Zones Board

[B-74-2013]

Foreign-Trade Zone (FTZ) 114—Peoria, Illinois; Notification of Proposed Production Activity, Easton-Bell Sports, Inc. (Sports Equipment), Rantoul, Illinois

Easton-Bell Sports, Inc. (Easton-Bell Sports) submitted a notification of proposed production activity to the FTZ Board for its facility in Rantoul, Illinois within FTZ 114. The notification conforming to the requirements of the regulations of the FTZ Board (15 CFR 400.22) was received on June 27, 2013.

A separate application for subzone status at the Easton-Bell Sports facility was submitted and is being processed under Section 400.31 of the Board's regulations (Doc. B-32-2013). The facility is used for the assembly and distribution of safety helmets, baby seats for bicycles and bicycle car carrier racks. Pursuant to 15 CFR 400.14(b), FTZ activity would be limited to the specific foreign-status materials and components and specific finished products described in the submitted notification (as described below) and subsequently authorized by the FTZ Board.

Production under FTZ procedures could exempt Easton-Bell Sports from customs duty payments on the foreign status components used in export production. On its domestic sales, Easton-Bell Sports would be able to choose the duty rates during customs entry procedures that apply to bicycle, motorcycle, football and baseball helmets; bicycle baby seats; and, bicycle car carrier racks (duty rate ranges from free to 2.5%) for the foreign status inputs noted below. Customs duties also could possibly be deferred or reduced on foreign status production equipment.

The components and materials sourced from abroad include: tape, stickers, plastic bags, stoppers, water bottles, plastic helmet parts, rubber grommets, textile bags, boxes, labels, header cards, manuals, webbing for helmets, helmets, helmet pads, screws, washers, helmet parts, buckles, bike carrier parts, bike parts and baby seat parts (duty rate ranges from free to 17.6%). The request indicates that textile bags (classified under HTSUS Subheading 4202.92) will be admitted to the zone in privileged foreign status (19 CFR 146.41), thereby precluding inverted tariff benefits on such items.

Public comment is invited from interested parties. Submissions shall be addressed to the Board's Executive Secretary at the address below. The closing period for their receipt is August 27, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: July 12, 2013.
Andrew McGilvray,
Executive Secretary.

[FR Doc. 2013-17264 Filed 7-17-13; 8:45 am]

BILLING CODE 3510-DS-P